DEPARTMENT OF DEFENSE

Department of the Air Force

Notice Is Given of the Names of Members of the Performance Review Board for the Department of the Air Force

ACTION: Notice.

SUMMARY: Notice is given of the names of members of the Performance Review Board for the Department of the Air Force.

DATES: Effective Date: November 6, 2012.

SUPPLEMENTARY INFORMATION: Pursuant to 5 U.S.C. 4314(c) (1-5), the Department of the Air Force (AF) announces the appointment of members to the AF's Senior Executive Service (SES) Pay Pool and Performance Review Board (PRB). Appointments are made by the authorizing official. Each board member shall review and evaluate performance scores provided by the SES' immediate supervisor. Performance standards must be applied consistently across the AF. The board will make final recommendations to the authorizing official relative to the performance of the executive.

The members of the 2012 Performance Review Board for the U.S. Air Force are:

1. Board President—Gen. Rice, Commander, Air Education and Training Command.

2. Lt. Gen. Hesterman, Military Deputy for Readiness, Office of the Secretary of Defense, Personnel & Readiness.

3. Lt. Gen. Davis, Military Deputy, Office of the Assistant Secretary of the Air Force for Acquisitions.

4. Mr. Corsi, Assistant Deputy Chief of Staff for Manpower, Personnel and Services.

5. Mrs. Westgate, Assistant Deputy Chief of Staff for Strategic Plans and Program.

6. Dr. Butler, Executive Director, Air Force Materiel Command.

7. Ms. Young, Assistant Deputy Chief of Staff for Logistics, Installations & Mission Support.

8. Mr. Exley, Auditor General, Army Audit Agency.

9. Ms. McKay, Director, Defense Finance and Accounting Service.

10. Mr. Williams, Principle Deputy Director for Air Force Studies & Analyses, Assessments & Lessons Learned.

11. Dr. Meink, Director, Signals Intelligence Systems, National Reconnaissance Office.

12. Mr. Murphy, Director, Intelligence Development, Intelligence Systems Support Office.

13. Mr. Cluck, Director for Acquisitions, U.S. Special Operations Command.

Additionally, all career status Air Force Tier 3 SES members not included in the above list are eligible to serve on the 2012 Performance Review Board and are hereby nominated for inclusion on an ad hoc basis in the event of absence(s).

FOR FURTHER INFORMATION CONTACT: Please direct any written comments or requests for information to Ms. Erin Moore, Deputy Director, Senior Executive Management, AF/DPS, 1040 Air Force Pentagon, Washington, DC 20330-1040 (PH: 703-695-7677; or via email at erin.moore@pentagon.af.mil.).

Tommy W. Lee,
Acting Air Force Federal Register Liaison Officer, DAF.

[FR Doc. 2012-17566 Filed 7-18-12; 8:45 am]

BILLING CODE 5001-10-P